DEPARTMENT OF COMMERCE

National Telecommunications and Information Administration

Membership of the National Telecommunications and Information Administration's Performance Review Board

AGENCY: National Telecommunications and Information Administration, Department of Commerce.

ACTION: Notice of membership on the National Telecommunications and Information Administration's Performance Review Board Membership.

SUMMARY: In accordance with 5 U.S.C. 4314(c)(4), the National Telecommunications and Information Administration (NTIA), Department of Commerce (DOC), announce the appointment of those individuals who have been selected to serve as members of NTIA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for NTIA's Performance Review Board begins on November 13, 2013.

FOR FURTHER INFORMATION CONTACT: Ruthie B. Stewart, Department of Commerce, Office of Human Resources Management, Office of Executive Resources, 14th and Constitution Avenue NW., Room 51010, Washington, DC 20230, at (202) 482-3130.

SUPPLEMENTARY INFORMATION: In accordance with 5 U.S.C. 4314 (c) (4), the National Telecommunications and Information Administration (NTIA), Department of Commerce (DOC), announce the appointment of those individuals who have been selected to serve as members of NTIA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for NTIA's Performance Review Board begins on November 13, 2013. The name, position title, and type of appointment of each member of NTIA's Performance Review Board are set forth below by organization:

Department of Commerce, National Telecommunications and Information Administration (NTIA)

Fiona M. Alexander, Associate Administrator, Office of International Affairs, Career SES

Leonard M. Bechtel, Chief Financial Officer and Director of Administration, Career SES, Chairperson

Karl B. Nebbia, Associate Administrator for Spectrum Management, Career SES

Alan W. Vincent, Associate Administrator for Telecommunication Sciences and Director Institute for Telecommunication Sciences, Career SES

Department of Commerce, International Trade Administration (ITA)

Renee A. Macklin, Chief Information Officer, Career SES

Department of Commerce, Economic Development Administration (EDA)

Matthew S. Erskine, Deputy Assistant Secretary for Economic Development, Non-Career SES, Political Advisor

Dated: November 6, 2013.
Debbie Pfaff,
Director, Office of Staffing, Recruitment and Classification, Department of Commerce Human Resources Operations Center.

[FR Doc. 2013-27077 Filed 11-12-13; 8:45 am]

BILLING CODE 3510-25-P